DEPARTMENT OF DEFENSE

Office of the Secretary

[Docket No. DOD-2010-OS-0111]

Submission for OMB Review; Comment Request

ACTION: Notice.

The Department of Defense has submitted to OMB for clearance, the following proposal for collection of information under the provisions of the Paperwork Reduction Act (44 U.S.C. Chapter 35).

DATES: Consideration will be given to all comments received by January 22, 2013.

Title, Associated Forms and OMB Number: Department of Defense Education Activity Student Registration; DoDEA Form 600; OMB Control Number 0704-TBD.

Type of Request: New.

Number of Respondents: 3,392.

Responses per Respondent: 1.

Annual Responses: 3,392.

Average Burden per Response: 30 minutes.

Annual Burden Hours: 1,696 hours.

Needs and Uses: This information collection is necessary to obtain information about Department of Defense military and civilian sponsors and the dependents they wish to enroll in a Department of Defense Education Activity (DoDEA) school. The information gathered on the sponsors is used to determine their dependents' enrollment eligibility to attend the DoDEA schools and their enrollment category, (i.e., whether the sponsors' dependents are authorized to enroll on a tuition-free or tuition-paying and space-required or space-available basis).

Affected Public: Individuals or households; business or other for-profit; not-for-profit institutions; Federal government.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: November 23, 2012.
Patricia L. Toppings,
OSD Federal Register Liaison Officer, Department of Defense.

[FR Doc. 2012-30661 Filed 12-19-12; 8:45 am]

BILLING CODE 5001-06-P